DEPARTMENT OF LABOR

Office of the Secretary

Submission for OMB Review; Comment Request

January 9, 2003.

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze on (202) 693-4158 or e-mail Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Revision of currently approved collection.

Agency: Employment Standards Administration (ESA).

Title: Black Lung Provider enrollment Form.

OMB Number: 1215-0137.

Affected Public: Business or other for-profit.

Frequency: On occasion.

Number of Respondents: 20,100.

Number of Annual Responses: 20,100.

Estimated Time Per Response: 8 minutes (new enrollees) and 3 minutes (existing respondents).

Total Burden Hours: 2,497.

Total Annualized Capital/Startup Costs: $0.

Total Annual Costs (operating/maintaining systems or purchasing services): $8,040.00.

Description: The Division of Coal Mine Workers' (DCMWC) is responsible for maintaining a list of authorized treating physicians and medical facilities in the area of the miner's residence and for payment of certain medical bills for services and supplies provided to the miner under the Black Lung Benefits Act [30 U.S.C. 901 et seq., 20 CFR 725.704(a) and 725.705(b)].

The OWCP-1168 is used to obtain profile information on each provider such as tax identification number, specialty, and addresses. Failure to obtain this data will prolong the bill payment process and increase the burden on providers by requiring them to resubmit bills that were previously rejected by DCMWC due to inadequate provider information.

Ira L. Mills,
Departmental Clearance Officer.

[FR Doc. 03-1520 Filed 1-22-03; 8:45 am]

BILLING CODE 4510-CK-M